DEPARTMENT OF TRANSPORTATION

Federal Aviation Administration

[Docket No.: FAA-2024-1363; Summary Notice No. 2024-21]

Petition for Exemption; Summary of Petition Received; Basler Turbo Conversions LLC

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before June 25, 2024.

ADDRESSES: Send comments identified by docket number FAA-2024-1363 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Shannon Uplinger, 202-267-6107, Office of Rulemaking, Federal Aviation Administration, 800 Independence Avenue SW, Washington, DC 20591.

This notice is published pursuant to 14 CFR 11.85.

Issued in Washington, DC, on May 30, 2024.
Dan Ngo,
Manager, Part 11 Petitions Branch, Office of Rulemaking.

Petition for Exemption

Docket No.: FAA-2024-1363.

Petitioner: Basler Turbo Conversions LLC.

Section(s) of 14 CFR Affected: §§ 25.1301 and 25.1322.

Description of Relief Sought: Basler Turbo Conversions LLC requests exemption from §§ 25.1301 and 25.1322 to allow the installation of its three Genesys Aerosystems Integrated Display Units (IDU-680) on Basler Modified DC-3 aircraft. The relief sought will permit the IDU-680 to be installed as currently designed with (1) use of an analog radar altimeter depiction on the Primary Flight Display, (2) depiction of obstacles in yellow in the Synthetic Vision System “Normal” mode regardless of their location in relation to the flight path, (3) use of threatening obstruction symbology with yellow obstructions outlined in red to distinguish them from threatening terrain hazards that progress from yellow to red, and (4) use of a green “X” to indicate that an external system data has been manually decluttered by the pilot but the system is functioning normally and available for selection.

[FR Doc. 2024-12246 Filed 6-4-24; 8:45 am]

BILLING CODE 4910-13-P